DEPARTMENT OF LABOR

Employment and Training Administration

[TA-W-62,705]

Faurecia Exhaust Systems, a Subsidiary of Faurecia Exhaust Division Including On-Site Leased Workers From Manpower, Inc., Patrick Staffing, ICI, Argus and Associates and Industrial Distribution Group Troy, OH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 11, 2008, applicable to workers of Faurecia Exhaust Systems, a subsidiary of Faurecia, Exhaust Division, including on-site leased workers from Manpower, Inc., Patrick Staffing, ICI, Argus and Associates, Troy, Ohio. The notice was published in the Federal Register on February 29, 2008 (73 FR 11152).

At the request of the petitioners, the Department reviewed the certification for workers of the subject firm. The workers are engaged in the production of automotive exhaust systems.

New information shows that workers leased from Industrial Distribution Group were employed on-site at the Troy, Ohio, location of Faurecia Exhaust Systems, a subsidiary of Faurecia, Exhaust Division. The Department has determined that these workers were sufficiently under the control of the subject firm to be considered leased workers.

Based on these findings, the Department is amending this certification to include leased workers of Industrial Distribution Group working on-site at the Troy, Ohio location of the subject firm.

The intent of the Department's certification is to include all workers employed at Faurecia Exhaust Systems, a subsidiary of Faurecia, Exhaust Division, Troy, Ohio who were adversely affected by a shift in production of automotive exhaust systems to Mexico.

The amended notice applicable to TA-W-62,705 is hereby issued as follows:

“All workers of Faurecia Exhaust Systems, a subsidiary of Faurecia, Exhaust Division, including on-site leased workers from Manpower, Inc., Patrick Staffing, ICI, Argus and Associates and Industrial Distribution Group, Troy, Ohio, who became totally or partially separated from employment on or after January 11, 2007, through February 11, 2010, are eligible to apply for adjustment assistance under Section 223 of the Trade Act of 1974, and are also eligible to apply for alternative trade adjustment assistance under Section 246 of the Trade Act of 1974.”

Signed at Washington, DC this 24th day of April 2008.
Linda G. Poole,
Certifying Officer, Division of Trade Adjustment Assistance.

[FR Doc. E8-9661 Filed 5-1-08; 8:45 am]

BILLING CODE 4510-FN-P